FEDERAL RESERVE SYSTEM

Agency information collection activities: Announcement of Board approval under delegated authority and submission to OMB

AGENCY: Board of Governors of the Federal Reserve System

ACTION: Notice

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-I's and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer Cindy Ayouch--Division of Research and Statistics, Board of Governors of the Federal Reserve System, Washington, DC 20551 (202-452-3829). OMB Desk Officer Joseph Lackey--Office of Information and Regulatory Affairs, Office of Management and Budget, New Executive Office Building, Room 10235, Washington, DC 20503.

Final Approval Under OMB Delegated Authority of The Extension For Three Years, With Minor Revision of The Following Reports:

1. Report title: The Weekly Report of Eurodollar Liabilities Held by Selected U.S. Addressees at Foreign Offices of U.S. Banks.

Agency form number: FR 2050.

OMB Control number: 7100-0068.

Frequency: Weekly.

Reporters: Foreign branches and banking subsidiaries of U.S. depository institutions.

Annual reporting hours: 1,872 hours.

Estimated average hours per response: 1.0 hour.

Number of respondents: 36.

Small businesses are not affected.

General description of report: This information collection is voluntary (12 U.S.C. 248(a)(2), 353 et seq., 461, 602, and 625). Individual respondent's data are confidential under section (b)(4) of the Freedom of Information Act (5 U.S.C. 552(b)(4)).

Abstract: The report collects data on Eurodollar deposits payable to nonbank U.S. addressees from foreign branches and subsidiaries of U.S. commercial banks and Edge and agreement corporations. The data are used for the construction of the Eurodollar component of the monetary aggregates and for analysis of banks' liability management practices.

Current action: The Federal Reserve will raise the reporting threshold from a weekly average of $500 million to $550 million in total Eurodollar liabilities.

2. Report title: The Quarterly Report of Assets and Liabilities of Large Foreign Offices of U.S. Banks.

Agency form number: FR 2502q.

OMB control number: 7100-0079.

Frequency: Quarterly.

Reporters: Large foreign branches and banking subsidiaries of U.S. depository institutions.

Annual reporting hours: 32,662 hours.

Estimated average hours per response: 3.5 hours.

Number of respondents: 2,333.

Small businesses are not affected.

General description of report: This information collection is required (12 U.S.C. 248(a)(2), 353 et seq., 461, 602, and 625) and is given confidential treatment (5 U.S.C. 552(b)(4)).

Abstract: The report collects gross assets and liability positions from foreign branches and subsidiaries of U.S. commercial banks and Edge and agreement corporations vis-a-vis individual countries. A separate schedule collects information on Eurodollar liabilities payable to certain U.S. addressees.

Current action: The Federal Reserve will revise the country list in the body of the reporting form to conform to the Department of State's official country list. Claims and liabilities that are not allocated by country of customer will be further broken out into that portion that is attributable to the fair value of derivatives contracts. Claims on and liabilities to other non-U.S. offices of the parent bank will be further broken out into that portion that is attributable to unallocated claims and liabilities. In addition, the instructions will be clarified with respect to the year-end panel review process and the definition of unallocated claims. Finally, the single data item collected on Schedule A will be reported as a seven-day average (one number) instead of daily (five numbers).

Board of Governors of the Federal Reserve System, March 4, 2003.
Jennifer J. Johnson,
Secretary of the Board.

[FR Doc. 03-6060 Filed 3-14-03; 8:45 am]

BILLING CODE 6210-01-S